DEPARTMENT OF LABOR

Employment and Training Administration

[NAFTA—03325 and 03325AA]

Levi Strauss & Company Wichita Falls Plant, Wichita Falls, TX and Walnut Creek Road Office, Walnut Creek, CA; Amended Certification Regarding Eligibility to Apply for NAFTA-Transitional Adjustment Assistance

In accordance with Section 250(a), Subchapter D, Chapter 2, Title II, of the Trade Act of 1974, as amended (19 USC 2273), the Department of Labor issued a Certification of Eligibility to Apply for NAFTA Transitional Adjustment Assistance on August 11, 1999, applicable to workers of Levi Strauss & Company, Wichita Falls Plant, Wichita Falls, Texas. The notice was published in the Federal Register on September 29, 1999 (64 FR 52543). The certification document was amended several times to include numerous facilities located at various locations.

At the request of the company, the Department reviewed the certification for workers of the subject firm. The workers are engaged in the production of denim and Docker apparel. The company reports that worker separations occurred at the Walnut Creek Road Office of Levi Strauss located in Walnut Creek, California. The Walnut Creek Road Office is a satellite office of the subject firms' headquarters in San Francisco, California and directly supports Levi Strauss's many production facilities. The intent of the Department's certification is to include all workers of Levi Strauss and Company who were adversely affected by increased imports of denim and Docker apparel from Mexico.

The amended notice applicable to NAFTA—03325 is hereby issued as follows:

All workers of Levi Strauss & Company, Wichita Falls Plant, Wichita Falls, Texas (NAFTA-03325) and Walnut Creek Road Office, Walnut Creek, California (NAFTA-03325AA) who became totally or partially separated from employment on or after August 8, 1999 through August 11, 2001 are eligible to apply for NAFTA-TAA under Section 250 of the Trade Act of 1974.

Signed in Washington, DC this 19th day of October, 2000.
Linda G. Poole,
Certifying Officer, Division of Trade Adjustment Assistance.

[FR Doc. 00-28029 Filed 10-31-00; 8:45 am]

BILLING CODE 4510-30-M